DEPARTMENT OF ENERGY

Federal Energy Regulatory Commission

Combined Notice of Filings #2

Take notice that the Commission received the following electric rate filings:

Docket Numbers: ER17-1561-001.

Applicants: New York Independent System Operator, Inc.

Description: Compliance filing: Compliance Order No. 831 Offer Caps to be effective 12/31/9998.

Filed Date: 12/8/17.

Accession Number: 20171208-5056.

Comments Due: 5 p.m. ET 12/29/17.

Docket Numbers: ER17-1871-001.

Applicants: Bayshore Solar B, LLC.

Description: Compliance filing: Bayshore Solar B LLC MBR Tariff to be effective 8/20/2017.

Filed Date: 12/8/17.

Accession Number: 20171208-5084.

Comments Due: 5 p.m. ET 12/29/17.

Docket Numbers: ER17-2471-001.

Applicants: ORNI 43 LLC.

Description: Second Amendment to September 14, 2017 ORNI 43 LLC tariff filing.

Filed Date: 12/7/17.

Accession Number: 20171207-5127.

Comments Due: 5 p.m. ET 12/21/17.

Docket Numbers: ER18-414-000.

Applicants: Midcontinent Independent System Operator, Inc.

Description: § 205(d) Rate Filing: 2017-12-08_SA 3067 ATC-UMERC GIA (J703) to be effective 11/30/2017.

Filed Date: 12/8/17.

Accession Number: 20171208-5074.

Comments Due: 5 p.m. ET 12/29/17.

Docket Numbers: ER18-415-000.

Applicants: El Paso Electric Company.

Description: § 205(d) Rate Filing: Rate Schedule No. 113 Agreement on Cost Responsibility for Wire Interconnection to be effective 12/9/2017.

Filed Date: 12/8/17.

Accession Number: 20171208-5113.

Comments Due: 5 p.m. ET 12/29/17.

Docket Numbers: ER18-416-000.

Applicants: San Diego Gas & Electric Company.

Description: § 205(d) Rate Filing: 2018 SDGE TACBAA update to Transmission Owner Tariff Filing to be effective 1/1/2018.

Filed Date: 12/8/17.

Accession Number: 20171208-5117.

Comments Due: 5 p.m. ET 12/29/17.

Docket Numbers: ER18-417-000.

Applicants: Wisconsin Public Service Corporation.

Description: § 205(d) Rate Filing: Filing of a Wholesale Distribution Agreement w/CWP to be effective 1/1/2018.

Filed Date: 12/8/17.

Accession Number: 20171208-5121.

Comments Due: 5 p.m. ET 12/29/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 8, 2017.
Kimberly D. Bose,
Secretary.

[FR Doc. 2017-27222 Filed 12-18-17; 8:45 am]

BILLING CODE 6717-01-P